DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: Technical Assistance for Health IT and Health Information Exchange in Medicaid and SCHIP. In accordance with the Paperwork Reduction Act of 1995, 44 U.S.C. 3506(c)(2)(A), AHRQ invites the public to comment on this proposed information collection.

DATES: Comments on this notice must be received by April 21, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov

SUPPLEMENTARY INFORMATION:

Proposed Project

“Technical Assistance for Health IT and Health Information Exchange in Medicaid and SCHIP”

AHRQ proposed a three year project to (1) assess the challenges facing Medicaid and State Children's Health Insurance Programs (SCHIP) agencies nationwide as they plan and implement health information technology (health IT) and health information exchange (HIE) programs and (2) provide the agencies with technical assistance to help them overcome these challenges. Health IT refers to the set of electronic tools and methods used for managing information about the health and health care of individuals, groups of individuals, and communities. HIE refers to organized efforts at the local, state, or regional levels to establish the necessary policy, business, operating, and technical mechanisms and structures that allow, support, and promote the exchange of health care information electronically across organizations. Health IT and HIE hold great promise for improving the quality and efficiency of health care in the United States. Medicaid and SCHIP agencies, which receive federal and state funding, serve the most medically and financially vulnerable populations. More than sixty percent of Medicaid beneficiaries have one or more chronic or disabling diseases. In addition, Medicaid and SCHIP beneficiaries frequently experience gaps in eligibility for benefits that cause beneficiaries to seek care from multiple settings, which compromises the accuracy and completeness of their health care records. These populations have much to gain from the coordination of care that can be realized from the adoption of health IT and HIE. Furthermore, as the largest health care purchaser in the United States, Medicaid can influence the adoption of health IT and HIE by providers of care. However, Medicaid and SCHIP agencies face considerable challenges in the implementation of health IT and HIE (Alfreds ST, Tutty M, Savageau JA, Young S. Himmelstein J (2006-2007). “Clinical Health Information Technologies and the Role of Medicaid.” Health Care Financing Review Vol. 28, No. 2, pp. 11-20.).

A needs assessment of the Medicaid and SCHIP agencies in all fifty six states and territories, including the District of Columbia, will be conducted to gauge the need for technical assistance. The needs assessment will be updated in the second year of the project to assure that the program of technical assistance that is developed will be of maximum utility to the Medicaid and SCHIP agencies.

AHRQ will develop and provide a wide range of technical assistance through workshops and web-based seminars to assist Medicaid and SCHIP agencies to adopt, implement and evaluate health IT and HIE to improve the quality of care for Medicaid and SCHIP beneficiaries. Based on the results of the needs assessment, workshops and web-based seminars, AHRQ will develop additional tools and resources, such as printed technical materials, to further facilitate the adoption of health IT and HIE among Medicaid and SCHIP agencies.

Method of Collection

The needs assessments will be conducted by telephone or in-person interviews with the directors of each Medicaid and SCHIP agency or with the persons designated by the director as most knowledgeable about their IT systems and planned or current health IT or HIE programs. The content of the needs assessment will be the same whether it is conducted by telephone or in person, and will be pre-populated to the extent possible with information gathered from other sources to reduce the burden on respondents, who can then simply verify that the information is correct. Workshop and seminar participants will be asked to complete a short evaluation of the material presented.

Estimated Annual Respondent Burden

Exhibit 1 shows the estimated annualized burden for this three-year project. The needs assessment will be conducted with an average of thirty agencies per year and will require approximately four hours and ten minutes per agency. Approximately seven workshops will be conducted each year with five agencies participating in each. The workshop evaluations will take approximately fifty minutes to complete. An average of ten web-based seminars will be conducted each year with twenty-five agencies participating in each. The seminar evaluations will take approximately twenty-five minutes to complete. The total annual burden for the respondents to provide the requested information is 260 hours.

Exhibit 2 shows the estimated annualized cost burden to the respondents for their time to provide the requested information. The total annualized cost burden is estimated to be $10,506.

Exhibit 1.—Estimated Annualized Burden
Data collection | Number of respondents (agencies) | Number of responses per respondent | Average burden hours per response | Total burden hours
Needs Assessment | 30 | 1 | 410/60 | 125
Workshop evaluations | 5 | 7 | 50/60 | 30
| Web-based seminar evaluations | 25 | 10 | 25/60 | 105
Total | 60 | na | na | 260

Exhibit 2.—Estimated Annualized Cost Burden
Form name | Number of respondents (agencies) | Total burden hours | Hourly wage rate | Total cost burden
Needs Assessment | 30 | 125 | 40.41 | $5,051
Workshop evaluations | 5 | 30 | 40.41 | 1,212
Web-based seminar evaluations | 25 | 105 | 40.41 | 4,243
Total | 60 | 260 |  | 10,506
* Based upon the mean hourly wage estimate for NAICS 999000—Federal, State, and Local Government (OES designation) occupation 11-1021 General and Operations Managers, Department of Labor, Bureau of Labor Statistics.

Estimated Annual Costs to the Federal Government

The projected total cost to the Federal Government for this project is $2,990,592 over a three-year period. The projected annual average cost is $996,864. The projected annual cost to design and implement the needs assessment is $180,799. The projected annual cost to develop and implement with workshops is $271,254. The projected annual cost to develop and implement the seminars is $98,187. The projected annual cost to analyze the data and report findings is $132,005. The projected annual administrative cost is $41,973, and the projected annual cost for other technical assistance support is $272,645.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information to be collected; and (d) ways to minimize the burden of the collection of information on he respondents, including the use of automated collection techniques or other forms of information technology.

Comments submitted in response to this notice will be summarized and included in the Agency's subsequent request for OMB approval of the proposed information collection. All comments will become a matter of public record.

Dated: February 8, 2008.
Carolyn M. Clancy, MD
Director

[FR Doc. 08-737 Filed 2-19-08; 8:45 am]

BILLING CODE 4160-90-M